DEPARTMENT OF TRANSPORTATION

Federal Aviation Administration

14 CFR Part 71

[Docket No. FAA-2013-0038; Airspace Docket No. 13-AEA-2]

Amendment of Class D and E Airspace, and Establishment of Class E Airspace; Oceana NAS, VA

AGENCY: Federal Aviation Administration (FAA), DOT.

ACTION: Final rule.

SUMMARY: This action amends the Class D and Class E airspace operating hours, and establishes Class E surface airspace at Oceana Naval Air Station, (NAS), VA, due to the Air Traffic Control Tower at Oceana NAS (Apollo Soucek Field) now operating on a part time basis. This action enhances the safety and airspace management of Instrument Flight Rules (IFR) operations at the airport. This action also updates the geographic coordinates of Oceana NAS (Apollo Soucek Field) and NALF Fentress.

DATES: Effective 0901 UTC, October 17, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On April 9, 2013, the FAA published in the Federal Register a notice of proposed rulemaking (NPRM) to amend Class D and Class E airspace, and establish Class E airspace at Oceana Naval Air Station, (NAS), VA, (78 FR 21084). Interested parties were invited to participate in this rulemaking effort by submitting written comments on the proposal to the FAA. No comments were received. Subsequent to publication the FAA found that the geographic coordinates of the NALF Fentress were transposed. This action makes the correction.

Class E airspace designations are published in paragraphs 5000, 6002, and 6004, respectively of FAA Order 7400.9W dated August 8, 2012, and effective September 15, 2012, which is incorporated by reference in 14 CFR Part 71.1. The Class D and Class E airspace designations listed in this document will be published subsequently in the Order.

The Rule

This amendment to Title 14, Code of Federal Regulations (14 CFR) part 71 amends the hours of operation for Class D airspace and Class E airspace designated as an extension to Class D surface airspace at Oceana NAS (Apollo Soucek Field), VA, as the air traffic control tower is transitioning from a full time facility to part time, and requires a Notice to Airmen notification. This action also establishes Class E airspace extending upward from the surface at Oceana NAS (Apollo Soucek Field), VA. The geographic coordinates of Oceana NAS (Apollo Soucek Field) and NALF Fentress are adjusted to coincide with the FAAs aeronautical database.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends and establishes controlled airspace at Oceana NAS (Apollo Soucek Field), Oceana, VA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, effective September 15, 2012, is amended as follows:

Paragraph 5000 Class D Airspace

* * * * *

AEA VA D Oceana NAS, VA [Amended]

Oceana NAS (Apollo Soucek Field), VA

(Lat. 36°49′22″ N., long. 76°01′55″ W.)

That airspace extending upward from the surface to and including 2,500 feet MSL within a 4.3-mile radius of Oceana NAS (Apollo Soucek Field). This Class D airspace area is effective during specific dates and times established in advance by a Notice to Airmen. The effective date and time will thereafter be continuously published in the Airport/Facility Directory.

Paragraph 6002 Class E Airspace Designated as Surface Areas

* * * * *

AEA VA E2 Oceana NAS, VA [New]

Oceana NAS (Apollo Soucek Field), VA

(Lat. 36°49′22″ N., long. 76°01′55″ W.)

Navy Oceana TACAN

(Lat. 36°49′27″ N., long. 76°02′13″ W)

NALF Fentress, VA

(Lat. 36°41′31″ N., long. 76°08′04″ W.)

That airspace extending upward from the surface within a 4.3-mile radius of Oceana NAS (Apollo Soucek Field), and within 1.8 miles each side of the Navy Oceana TACAN 213° radial extending from the 4.3-mile radius of Oceana NAS (Apollo Soucek Field) to 9.3 miles southwest of the TACAN and within a 2.7-mile radius of NALF Fentress. This Class E airspace area is effective during specific dates and times established in advance by a Notice to Airmen. The effective date and time will thereafter be continuously published in the Airport/Facility Directory.

Paragraph 6004 Class E Airspace Designated as an Extension to a Class D Surface Area.

* * * * *

AEA VA E4 Oceana NAS, VA [Amended]

Oceana NAS (Apollo Soucek Field)

(Lat. 36°49′22″ N., long. 76°01′55″ W.)

Navy Oceana TACAN

(Lat. 36°49′27″ N., long. 76°02′13″ W.)

NALF Fentress, VA

(Lat. 36°41′31″ N., long. 76°08′04″ W.)

That airspace extending upward from the surface within 1.8 miles each side of the Navy Oceana TACAN 213° radial extending from the 4.3-mile radius of Oceana NAS (Apollo Soucek Field) to 9.3 miles southwest of the TACAN and within a 2.7-mile radius of NALF Fentress. This Class E airspace area is effective during specific dates and times established in advance by a Notice to Airmen. The effective date and time will thereafter be continuously published in the Airport/Facility Directory.

Issued in College Park, Georgia, on July 24, 2013.
Jackson D. Allen,
Acting Manager, Operations Support Group, Eastern Service Center, Air Traffic Organization.

[FR Doc. 2013-18398 Filed 7-31-13; 8:45 am]

BILLING CODE 4910-13-P